DEPARTMENT OF COMMERCE

National Oceanic and Atmospheric Administration

[I.D. 032000F]

North Pacific Fishery Management Council; Public Meetings

AGENCY: National Marine Fisheries Service (NMFS), National Oceanic and Atmospheric Administration (NOAA), Commerce.

ACTION: Notice of public meetings of the North Pacific Fishery Management Council and its advisory committees.

SUMMARY: The North Pacific Fishery Management Council (Council) and its advisory committees will hold public meetings.

DATES: The Council and its advisory committees will meet in Anchorage, AK the week of April 10, 2000. See SUPPLEMENTARY INFORMATION for specific dates and times.

ADDRESSES: All meetings through Saturday, April 15, will be held at the Hilton Hotel, 500 W. Third Avenue, Anchorage, AK. On Sunday and Monday, April 16-17, the Council will meet at the Fourth Avenue Theater, 630 W. Fourth Avenue, in Anchorage.

Council address: North Pacific Fishery Management Council, 605 W. 4th Ave., Suite 306, Anchorage, AK 99501-2252.

FOR FURTHER INFORMATION CONTACT: Council staff, Phone: 907-271-2809.

SUPPLEMENTARY INFORMATION:

Meeting Dates and Times

The Advisory Panel meeting will begin at 8:00 a.m., April 10, and continue through Thursday, April 13.

The Scientific Committee will begin at 9:00 a.m. on Monday, April 10, and continue through Tuesday, April 11.

The Council will begin their plenary session at 8:00 a.m. on Wednesday, April 12, continuing through Monday, April 17.

All meetings are open to the public except Executive Sessions which may be held during the week to discuss litigation and/or personnel matters.

Council:

The agenda for the Council's plenary session will include the following issues:

The Council may take appropriate action on any of the issues identified.

1. Reports

(a) Executive Director's Report.

(b) State Fisheries Report by Alaska Dept. of Fish and Game.

(c) NMFS Management Report.

(d) Enforcement and Surveillance reports by NMFS and the Coast Guard.

(e) Seabird Bycatch Report.

(f) Report on March meeting of the Alaska Board of Fisheries.

(g) Gulf of Alaska Ecosystems Management Report.

2. Halibut Charterboat Guideline Harvest Level/Individual Fishing Quotas (IFQ): Receive committee report on preliminary elements and options for potential IFQ system.

(a) Observer Program:

(b) Observer Committee report.

(c) Review of six regulatory amendments recommended by NMFS.

(d) Report on experimental fishing project for observer sampling methods.

3. Pacific cod license limitation endorsements: Final action.

4. Steller Sea Lions:

(a) Status reports on litigation, implementation of sea lion protective measures, and biological opinion number three.

(b) Extend emergency rule for sea lion protection measures.

5. American Fisheries Act:

(a) Action to extend emergency rules for 180 days.

(b) Status report on development of Environmental Impact Statement.

6. Halibut Subsistence: initial review of amendment.

7. Habitat Areas of Particular Concern: Final action on protection of invertebrates.

8. Groundfish Management:

(a) Review groundfish fishery management plan updates and review Supplemental Environmental Impact Statement (SEIS) scoping document.

(b) Status report on the groundfish specification process.

(c) Review Experimental Fishing Permit for halibut excluders.

9. Crab Management:

(a) Initial review of rebuilding plans for St. Matthew blue and Opilio crabs.

(b) Updates on crab cooperatives and permit buyback program.

Advisory Meetings:

Advisory Panel: With the exception of the reports listed under Item 1, the agenda for the Advisory Panel will mirror that of the Council listed above.

Scientific and Statistical Committee: The Scientific and Statistical Committee (SSC) will address the following items on the Council agenda:

1. Observer Program issues.

2. Progress on the Groundfish SEIS.

3. Pacific cod license limitation endorsements.

4. Habitat areas of particular concern.

5. Crab rebuilding plans.

6. Review Experimental Fishing Permit for halibut excluders.

7. Review and comment on NMFS Economic Guidelines.

Other committees and workgroups may hold impromptu meetings throughout the meeting week. Such meetings will be announced during regularly-scheduled meetings of the Council, Advisory Panel, and SSC, and will be posted at the hotel.

Although non-emergency issues not contained in this agenda may come before these groups for discussion, those issues may not be the subject of formal action during this meeting. Action will be restricted to those issues specifically identified in this notice and any issues arising after publication of this notice that require emergency action under section 305(c) of the Magnuson-Stevens Fishery Conservation and Management Act, provided the public has been notified of the Council's intent to take final action to address the emergency.

Special Accommodations

These meetings are physically accessible to people with disabilities. Requests for sign language interpretation or other auxiliary aids should be directed to Helen Allen at 907-271-2809 at least 7 working days prior to the meeting date.

Dated: March 21, 2000.
Bruce C. Morehead,
Acting Director, Office of Sustainable Fisheries, National Marine Fisheries Service.

[FR Doc. 00-7501 Filed 3-24-00; 8:45 am]

BILLING CODE 3510-22-F